JUDICIAL CONFERENCE OF THE UNITED STATES

Advisory Committee on Evidence Rules; Meeting of the Judicial Conference

AGENCY: Judicial Conference of the United States.

ACTION: Advisory Committee on Evidence Rules; Notice of open meeting.

SUMMARY: The Advisory Committee on Evidence Rules will hold a meeting on November 5, 2021 in San Diego, CA. The meeting is open to the public for observation but not participation. An agenda and supporting materials will be posted at least 7 days in advance of the meeting at: http://www.uscourts.gov/rules-policies/records-and-archives-rules-committees/agenda-books.

DATES: November 5, 2021, 9 a.m.-5 p.m. (Pacific).

FOR FURTHER INFORMATION CONTACT: Julie Wilson, Esq., Acting Chief Counsel, Rules Committee Staff, Administrative Office of the U.S. Courts, Thurgood Marshall Federal Judiciary Building, One Columbus Circle NE, Suite 7-300, Washington, DC 20544, Phone (202) 502-1820, RulesCommittee_Secretary@ao.uscourts.gov.

(Authority: 28 U.S.C. 2073.)

Dated: June 21, 2021.
Shelly L. Cox,
Management Analyst, Rules Committee Staff.

[FR Doc. 2021-13717 Filed 6-25-21; 8:45 am]

BILLING CODE 2210-55-P